ENVIRONMENTAL PROTECTION AGENCY

[FRL-6707-8]

Meeting of the Small Community Advisory Subcommittee

AGENCY: Environmental Protection Agency (EPA).

ACTION: Notice.

SUMMARY: The Small Community Advisory Subcommittee will meet on June 19—20, 2000, in Washington, DC.

The Small Community Advisory Subcommittee was established by the U.S. Environmental Protection Agency as a standing subcommittee of the Local Government Advisory Committee. The June meeting will focus on Community Based Environmental Protection, Drinking Water Regulations and EPA's Regional Offices.

The Committee will hear comments from the public between 9:00 a.m. and 9:15 a.m. on June 19, 2000. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating will be on a first come, first serve basis.

DATES: The meeting will begin at 8:30 a.m. on Monday, June 19th and conclude at 5:00 p.m. on the 20th.

ADDRESSES: The meetings will be held at the EPA Office located at 1200 Pennsylvania Ave. NW., Washington, DC in room 5530 Ariel Rios North.

Requests for Minutes and other information can be obtained by writing the DFO at 1200 Pennsylvania Ave., NW. (1306A), Washington, DC 20460.

FOR FURTHER INFORMATION CONTACT: The DFO for this Subcommittee is Steven Wilson. He is the point of contact for information concerning any Subcommittee matters and can be reached by calling (202) 564-3646.

Dated: May 18, 2000.
Steven Wilson,
Designated Federal Officer, Small Community Advisory Subcommittee.

[FR Doc. 00-13844 Filed 6-1-00; 8:45 am]

BILLING CODE 6560-50-P